DEPARTMENT OF DEFENSE

Office of the Secretary

[DOD-2006-OS-0222]

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of the Local Redevelopment Authorities (LRAs) recognized by the Secretary of Defense, acting through the Department of Defense Office of Economic Adjustment (OEA), as well as the points of contact, addresses, and telephone numbers for the LRAs for those installations. Representatives of state and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

DATES: Effective Date: December 27, 2006.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

California

Installation Name: PVT George L. Richey U.S. Army Reserve Center San Jose.

LRA Name: County of Santa Clara.

Point of Contact: Larry Klamecki, Special Projects Manager, County of Santa Clara.

Address: 70 West Hedding Street, 11th Floor, San Jose, CA 95110.

Phone: (408) 299-6413.

Washington

Installation Name: Navy-Marine Corps Reserve Center Tacoma.

LRA Name: Local Redevelopment Authority for the U.S. Navy Marine Reserve Center—Tacoma.

Point of Contact: Jack C. Hedge, Port of Tacoma.

Address: One Sitcum Way, Tacoma, WA 98421.

Phone: (253) 592-6712.

Dated: December 20, 2006.
L.M. Bynum,
OSD Federal Register Liaison Officer, Department of Defense.

[FR Doc. 06-9867 Filed 12-26-06; 8:45 am]

BILLING CODE 5001-06-M